DEPARTMENT OF ENERGY

Federal Energy Regulatory Commission

[Project No. 2899-099 Idaho]

Idaho Power Company; Notice of Availability of Environmental Assessment

May 9, 2001.

In accordance with the National Environmental Policy Act of 1969 and the Federal Energy Regulatory Commission's regulations, 18 CFR Part 380 (Order No. 486, 52 FR 47910), the Office of Energy Projects has reviewed Idaho Power Company's application for license amendment to waive for 1 year the target flow requirements at the Milner Hydroelectric project, located on the Snake River in Twin Falls and Cassia Counties, Idaho, and has prepared an environmental assessment (EA). The project includes about 109 acres of federal land administered by the Bureau of Land Management.

The EA contains the staff's analysis of the potential environmental impacts of the proposed amendment and concludes that the approval of the proposed amendment with staff's modifications would not constitute a major federal action that would significantly affect the quality of the human environment.

The EA is attached to a Commission order issued on May 8, 2001, for the above application. Copies of the EA can be obtained by calling the Commission's Public Reference Room at (202) 208-1371. Copies of the EA can also be obtained through the Commission's homepage at http://www.ferc.fed.us.

For further information, contact Kenneth Hogan at (202) 208-0434.

David P. Boergers,
Secretary.

[FR Doc. 01-12151 Filed 5-14-01; 8:45 am]

BILLING CODE 6717-01-M